DEPARTMENT OF ENERGY

Agency Information Collection Extension

AGENCY: U.S. Department of Energy.

ACTION: Notice and request for comments.

SUMMARY: The Department of Energy (DOE), pursuant to the Paperwork Reduction Act of 1995), intends to extend for three years, an information collection request (OMB Control Number 1910-1700) with the Office of Management and Budget (OMB). The proposed voluntary collection will request that an individual or an authorized designee provide pertinent information for easy record retrieval allowing for increased efficiencies and quicker processing. Pertinent information includes the requester's name, shipping address, phone number, email address, previous work location, the action requested and any identifying data that will help locate the records (e.g., maiden name, occupational license number, time and place of employment). Comments are invited on: (a) whether the extended collection of information is necessary for the proper performance of the functions of the agency, including whether the information shall have practical utility; (b) the accuracy of the agency's estimate of the burden of the proposed collection of information, including the validity of the methodology and assumptions used; (c) ways to enhance the quality, utility, and clarity of the information to be collected; and, (d) ways to minimize the burden of the collection of information on respondents, including through the use of automated collection techniques or other forms of information technology.

DATES: Comments regarding this proposed information collection must be received on or before February 28, 2014. If you anticipate difficulty in submitting comments within that period, contact the person listed below as soon as possible.

ADDRESSES: Troy Manigault, Departmental Records Officer, Office of the Chief Information Officer, U.S. Department of Energy, 19901 Germantown Rd, Room G-312, Germantown, MD 20874, Phone: 301-903-9926 (Office), informationcollection@hq.doe.gov.

FOR FURTHER INFORMATION CONTACT: Russell Pereira, Director of E-Government and Standards, Office of the Chief Information Officer, U.S. Department of Energy, 1000 Independence Ave. SW., Washington, DC 20585, 202-586-0338 (Office), russell.pereira@hq.doe.gov.

SUPPLEMENTARY INFORMATION: This information collection request contains: (1) OMB No. 1910-1700; (2) Information Collection Request Title: Records and Administration; (3) Type of Review: Renewal; (4) Purpose: The Privacy Act Information Request Form (DOE Form 531), which assists the Department of Energy in processing privacy requests submitted by an individual or an authorized designee where-in he or she is requesting records the government may maintain on them, and increases efficiencies including, but not limited to quicker processing of privacy requests by asking individuals or their designees pertinent information for easy record retrieval; (5) Annual Estimated Number of Respondents: 135; (6) Annual Estimated Number of Total Responses: 135; (7) Annual Estimated Number of Burden Hours: 45 hrs; (8) Annual Estimated Reporting and Recordkeeping Cost Burden: N/A.

Statutory Authority: The Privacy Act of 1974, 5 U.S.C. 552(a), 10 CFR 1008.7, and DOE Order 206.1.

Issued in Washington, DC on December 23, 2013.
Troy Manigault,
Departmental Records Officer, Office of the Chief Information Officer.

[FR Doc. 2013-31222 Filed 12-27-13; 8:45 am]

BILLING CODE 6450-01-P